DEPARTMENT OF HOUSING AND URBAN DEVELOPMENT

[Docket No. FR-5831-N-48]

30-Day Notice of Proposed Information Collection: Public/Private Partnerships for the Mixed-Finance Development of Public Housing Units

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: November 9, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on July 31, 2015 at 80 FR 45676.

A. Overview of Information Collection

Title of Information Collection: Public/Private Partnerships for the Mixed-Finance Development of Public Housing Unit.

OMB Approval Number: 2577-0275.

Type of Request: Reinstatment with change of a previously approved collection.

Form Number: HUD-50156, HUD-50157, HUD-50158, HUD-50159, HUD-50160 and HUD-50161.

Description of the need for the information and proposed use: The Quality Housing and Work Responsibility Act of 1998 (Pub. L. 195-276, approved October 21, 1998), also known as the Public Housing Reform Act, created Section 35 of the U.S. Housing Act of 1937, 42 U.S.C. 1437. Section 35 allows PHAs to own, operate, assist or otherwise participate in the development and operation of mixed-finance projects. Mixed-finance development refers to the development or rehabilitation of public housing, where the public housing units are owned in whole or in part by an entity other than a PHA. Prior to this, all public housing had to be developed and owned by a Public Housing Authority (PHA).

However, Section 35 allowed PHAs to provide Section 9 capital and operating assistance to mixed-finance projects, which are also financially assisted by private and other resources. Private and other resources include tax credit equity, private mortgages and other federal, state or local funds. Section 35 also allows non-PHA owner entities to own and operate mixed-finance projects that contain both public housing and non-public housing units, or only public housing units. Along with public housing unit development, mixed-finance real estate development or rehabilitation transactions are used to extend public housing appropriations in housing development and to develop mixed-income housing, where public housing residents are anonymously mixed in with affordable and market rate housing residents.

In order to approve the development of mixed-finance projects, HUD collects certain information from each PHA/Ownership Entity. Under current regulations, HUD collects and reviews the essential documents included in this ICR in order to determine whether or not approval should be given. After approval is given and the documents are recorded by the associated county, HUD collects the recorded versions of the documents in this ICR, along with all financing and legal agreements that the PHA/owner entity has with HUD and with third-parties in connection with that mixed-finance project. This includes unique legal documents along with standardized forms and “Certifications and Assurances,” which are not exempted under PRA. Regulations for the processing of mixed-finance public housing projects are at 24 CFR part 905 subpart F (§ 905). § 905 has replaced 24 CFR part 941 Subpart F, which was cited in the supporting statement for the previous OMB approval of this information collection.

This information is collected to ensure that the mixed-finance development effort has sufficient funds to reach completion, remain financially viable, and follow HUD legal and programmatic guidelines for housing project development or rehabilitation, ownership and use restrictions, as well as preserving HUD's rights to the project.

PHAs must provide information to HUD before a proposal can be approved for mixed-finance development. Information on HUD-prescribed forms and in HUD-prescribed contracts and agreements provides HUD with sufficient information to enable a determination that funds should or should not be reserved or a contractual commitment made. Regulations at 24 CFR part 905.606, “Development Proposal” states that a Mixed-finance Development Proposal (Proposal) must be submitted to HUD in order to facilitate approval of the development of public housing. The subpart also lists the information that is required in the Proposal. The documentation required is submitted using the collection documents (ICs) in this ICR.

Members of affected public: Public Housing Agencies, Developers.

Estimation of the total number of hours needed to prepare the information collection including number of respondents, frequency of response, and hours of response:

| Form/ document | Number of respondents | Frequency | Total responses | Hours per response | Total hours | Cost per hour | Total cost
1. HUD-50157 Mixed-Finance Development Proposal | 60 | 1 | 60 | 16 | 960 | $50 | $48,000
2. Supplementary Document: Unique Legal Document, Mixed-Finance Amendment to the Annual Contributions Contract | 60 | 1 | 60 | 24 | 1,440 | 50 | 72,000
3. Supplementary Document: Unique Legal Document, Mixed-Finance Declaration of Restrictive Covenants | 60 | 1 | 60 | 0.25 | 15 | 225 | 3,375
4. Supplementary Document: Unique Legal Document, Mixed-Finance Final Title Policy | 60 | 1 | 60 | 16 | 960 | 225 | 216,000
5. Supplementary Document: Unique Legal Document, Mixed-Finance Legal Opinion | 60 | 1 | 60 | 1 | 60 | 225 | 13,500
6. Supplementary Document: Unique Legal Documents, Mixed-Finance Evidentiaries | 60 | 1 | 60 | 116 | 6,960 | 225 | 1,566,000
7. Supplementary Document: Unique Legal Document, Regulatory and Operating Agreement | 60 | 1 | 60 | 8 | 480 | 225 | 108,000
8. Supplementary Document: Unique Legal Document, Transition Plan | 60 | 1 | 60 | 8 | 480 | 225 | 108,000
9. HUD-50161 Mixed-Finance Certifications and Assurances | 60 | 1 | 60 | 0.25 | 15 | 50 | 750
10. Supplementary Document: Unique Legal Document, Site Acquisition Proposal | 110 | 1 | 110 | 8 | 880 | 50 | 44,000
11. Supplementary Document: Unique Legal Document, Development Proposal | 50 | 1 | 50 | 80 | 4,000 | 50 | 200,000
12. HUD-50156 Mixed-Finance Development Proposal Calculator | 60 | 1 | 60 | 1 | 60 | 50 | 3,000
13. HUD-50059 Mixed-Finance Homeownership Term Sheet | 20 | 1 | 20 | 16 | 320 | 50 | 16,000
14. Supplementary Document: Unique Legal Document, Mixed-Finance Homeownership Addendum | 20 | 1 | 20 | 16 | 320 | 225 | 72,000
15. HUD-50158 Mixed-Finance Homeownership Certifications and Assurances | 20 | 1 | 20 | 0.25 | 5 | 50 | 250
16. HUD-50160 Mixed-Finance and Homeownership Pre-Funding Certifications and Assurances | 80 | 1 | 80 | 0.25 | 20 | 50 | 1,000
17. Supplementary Document: Unique Legal Document, Mixed-Finance Homeownership Declaration of Restrictive Covenants | 20 | 1 | 20 | 0.25 | 5 | 50 | 250
Totals | 130 |  | 920 |  | 16,980 |  | 2,472,125

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: 12 U.S.C. 1701z-1 Research and Demonstrations.

Dated: October 1, 2015.
Colette Pollard,
Department Reports Management Officer, Office of the Chief Information Officer.

[FR Doc. 2015-25824 Filed 10-8-15; 8:45 am]

BILLING CODE 4210-67-P